Title 3—

The President

Memorandum of January 30, 2013

Coordination of Policies and Programs To Promote Gender Equality and Empower Women and Girls Globally

Memorandum for the Heads of Executive Departments and Agencies

Promoting gender equality and advancing the status of all women and girls around the world remains one of the greatest unmet challenges of our time, and one that is vital to achieving our overall foreign policy objectives. Ensuring that women and girls, including those most marginalized, are able to participate fully in public life, are free from violence, and have equal access to education, economic opportunity, and health care increases broader economic prosperity, as well as political stability and security.

During my Administration, the United States has made promoting gender equality and advancing the status of women and girls a central element of our foreign policy, including by leading through example at home. Executive Order 13506 of March 11, 2009, established the White House Council on Women and Girls to coordinate Federal policy on issues, both domestic and international, that particularly impact the lives of women and girls. This commitment to promoting gender equality is also reflected in the National Security Strategy of the United States, the Presidential Policy Directive on Global Development, and the 2010 U.S. Quadrennial Diplomacy and Development Review.

To elevate and integrate this strategic focus on the promotion of gender equality and the advancement of women and girls around the world, executive departments and agencies (agencies) have issued policy and operational guidance. For example, in March 2012, the Secretary of State issued Policy Guidance on Promoting Gender Equality to Achieve our National Security and Foreign Policy Objectives, and the United States Agency for International Development (USAID) Administrator released Gender Equality and Female Empowerment Policy. The Millennium Challenge Corporation issued Gender Integration Guidelines in March 2011 to ensure its existing gender policy is fully realized. My Administration has also developed a National Action Plan on Women, Peace, and Security, created pursuant to Executive Order 13595 of December 19, 2011, to strengthen conflict resolution and peace processes through the inclusion of women, and a Strategy to Prevent and Respond to Gender-based Violence Globally, implemented pursuant to Executive Order 13623 of August 10, 2012, to combat gender-based violence around the world. Improving interagency coordination and information sharing, and strengthening agency capacity and accountability will help ensure the effective implementation of these and other Government efforts to promote gender equality and advance the status of women and girls globally.

By the authority vested in me as President by the Constitution and the laws of the United States of America, and in order to further strengthen the capacity of the Federal Government to ensure that U.S. diplomacy and foreign assistance promote gender equality and advance the status of women and girls worldwide, I hereby direct the following:

Section 1. Strengthening Capacity and Coordination to Promote Gender Equality and Advance the Status of Women and Girls Internationally. (a) Enhancing U.S. global leadership on gender equality requires dedicated resources, personnel with appropriate expertise in advancing the status of women and girls worldwide, and commitment from senior leadership, as exemplified by the critical and historic role played by the Office of Global Women's Issues at the Department of State. To assure maximum coordination of efforts to promote gender equality and advance the status of women and girls, the Secretary of State (Secretary) shall designate a coordinator (Coordinator), who will normally also be appointed by the President as an Ambassador at Large (Ambassador at Large) subject to the advice and consent of the Senate. The Ambassador at Large, who shall report directly to the Secretary of State, shall lead the Office of Global Women's Issues at the Department of State and provide advice and assistance on issues related to promoting gender equality and advancing the status of women and girls internationally.

(b) The Ambassador at Large shall, to the extent the Secretary may direct and consistent with applicable law, provide guidance and coordination with respect to global policies and programs for women and girls, and shall lead efforts to promote an international focus on gender equality more broadly, including through diplomatic initiatives with other countries and partnerships and enhanced coordination with international and nongovernmental organizations and the private sector. To this end, the Ambassador at Large shall also, to the extent the Secretary may direct, assist in:

(i) implementing existing and developing new policies, strategies, and action plans for the promotion of gender equality and advancement of the status of women and girls internationally, and coordinating such actions with USAID and other agencies carrying out related international activities, as appropriate; and

(ii) coordinating such initiatives with other countries and international organizations, as well as with nongovernmental organizations.

(c) Recognizing the vital link between diplomacy and development, and the importance of gender equality as both a goal in itself and as a vital means to achieving the broader aims of U.S. development assistance, the Senior Coordinator for Gender Equality and Women's Empowerment at USAID shall provide guidance to the USAID Administrator in identifying, developing, and advancing key priorities for U.S. development assistance, coordinating, as appropriate, with other agencies.

(d) The Assistant to the President for National Security Affairs (or designee), in close collaboration with the Chair of the White House Council on Women and Girls (or designee) and the Ambassador at Large (or designee), shall chair an interagency working group to develop and coordinate Government-wide implementation of policies to promote gender equality and advance the status of women and girls internationally. The Working Group shall consist of senior representatives from the Departments of State, the Treasury, Defense, Justice, Agriculture, Commerce, Labor, Health and Human Services, Education, and Homeland Security; the Intelligence Community, as determined by the Director of National Intelligence; the United States Agency for International Development; the Millennium Challenge Corporation; the Peace Corps; the U.S. Mission to the United Nations; the Office of the United States Trade Representative; the Office of Management and Budget; the Office of the Vice President; the National Economic Council; and such other agencies and offices as the President may designate.

Sec. 2. General Provisions. (a) Nothing in this memorandum shall be construed to impair or otherwise affect:

(i) the authority granted by law or Executive Order to an executive department, agency, or the head thereof; or

(ii) the functions of the Director of the Office of Management and Budget relating to budgetary, administrative, or legislative proposals.

(b) This memorandum shall be implemented consistent with applicable law and subject to the availability of appropriations.

(c) Upon designation as such by the Secretary, the Coordinator shall exercise the functions of the Ambassador at Large set forth in this memorandum.

(d) This memorandum is not intended to, and does not, create any right or benefit, substantive or procedural, enforceable at law or in equity by any party against the United States, its departments, agencies, or entities, its officers, employees, or agents, or any other person.

(e) The Secretary of State is hereby authorized and directed to publish this memorandum in the Federal Register.

THE WHITE HOUSE,

Washington, January 30, 2013.

[FR Doc. 2013-02569

Filed 2-1-13; 11:15 am]

Billing code 4710-10